DEPARTMENT OF HOMELAND SECURITY

Coast Guard

33 CFR Part 117

[CGD01-06-127]

Drawbridge Operation Regulations; Passaic River, Harrison, NJ

AGENCY: Coast Guard, DHS.

ACTION: Notice of temporary deviation from regulations.

SUMMARY: The Commander, First Coast Guard District, has issued a temporary deviation from the regulation governing the operation of the Amtrak Dock Bridge across the Passaic River at mile 5.0, at Harrison, New Jersey. Under this temporary deviation, the bridge may remain in the closed position for six weekends from October 13, 2006 through November 20, 2006. This deviation is necessary to facilitate scheduled bridge maintenance.

DATES: This deviation is effective from October 13, 2006 through November 20, 2006.

ADDRESSES: Materials referred to in this document are available for inspection or copying at the First Coast Guard District, Bridge Branch Office, One South Street, New York, New York 10004, between 7 a.m. and 3 p.m., Monday through Friday, except Federal holidays. The telephone number is (212) 668-7165. The First Coast Guard District Bridge Branch Office maintains the public docket for this temporary deviation.

FOR FURTHER INFORMATION CONTACT: Joe Arca, Project Officer, First Coast Guard District, at (212) 668-7165.

SUPPLEMENTARY INFORMATION: The Amtrak Dock Bridge across the Passaic River at mile 5.0, at Harrison, New Jersey, has a vertical clearance in the closed position of 13 feet at mean high water and 20 feet at mean low water. The existing drawbridge operation regulations are listed at 33 CFR 117.739(e).

The owner of the Dock Bridge is the National Railroad Passenger Corporation (Amtrak). The bridge operator, the Port Authority Trans Hudson Corporation (PATH), requested a temporary deviation to facilitate scheduled bridge maintenance, replacement of the miter joints. The bridge will not be able to open while the bridge maintenance is underway.

Under this temporary deviation, the Amtrak Dock Bridge may remain in the closed position for six weekends from October 13, 2006 through November 20, 2006. The weekend bridge closures shall begin each week at 11 p.m. on Friday and continue through 5 a.m. on Monday.

In accordance with 33 CFR 117.35(c), this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: October 10, 2006.
Gary Kassof,
Bridge Program Manager, First Coast Guard District.

[FR Doc. E6-17390 Filed 10-17-06; 8:45 am]

BILLING CODE 4910-15-P